CONSUMER PRODUCT SAFETY COMMISSION

Commission Agenda, Priorities and Strategic Plan; Request for Comments

AGENCY: Consumer Product Safety Commission.

ACTION: Notice.

SUMMARY: The Consumer Product Safety Commission (Commission or CPSC) is developing its agenda and priorities for Commission attention during fiscal year 2011, which begins October 1, 2010, and considering revisions to its current strategic plan, pursuant to the Government Performance and Results Act (GPRA). The Commission seeks written comments concerning the Commission's agenda and priorities for fiscal year 2011 and revisions to the strategic plan.

DATES: Written comments from members of the public must be received by the Office of the Secretary not later than June 26, 2009.

ADDRESSES: Written comments should be captioned “Agenda, Priorities and Strategic Plan” and e-mailed to cpsc-os@cpsc.gov, or mailed or delivered to the Office of the Secretary, Consumer Product Safety Commission, 4330 East West Highway, Bethesda, Maryland 20814, to be received not later than June 26, 2009.

FOR FURTHER INFORMATION CONTACT: Todd A. Stevenson, Office of the Secretary, Consumer Product Safety Commission, 4330 East West Highway, Bethesda, Maryland 20814; e-mail cpsc-os@cpsc.gov; telephone (301) 504-7923; facsimile (301) 504-0127.

SUPPLEMENTARY INFORMATION: Section 306(d) of the Government Performance and Results Act (GPRA) (5 U.S.C. 306(d)) requires the Commission to seek comments from interested parties as part of the process of revising the current CPSC strategic plan. The strategic plan is a GPRA requirement. The revised plan will provide an overall guide to the formulation of future agency actions and budget requests. The Office of Management and Budget requires all Federal agencies to submit their budget requests 13 months before the beginning of each fiscal year. The draft CPSC budget request for fiscal year 2011, which begins on October 1, 2010, is being formulated now by staff. The final budget request must reflect the contents of the agency's strategic plan developed under GPRA.

Section 4(j) of the Consumer Product Safety Act (CPSA) (15 U.S.C. 2053(j)) requires the Commission to establish an agenda for action under the laws it administers, and, to the extent feasible, to select priorities for action at least 30 days before the beginning of each fiscal year. Section 4(j) of the CPSA provides further that, before establishing its agenda and priorities, the Commission conduct a public hearing and provide an opportunity for the submission of comments.

An electronic copy of the 2003 Strategic Plan can be found at http://www.cpsc.gov/cpscpub/pubs/reports/2003strategic.pdf. An electronic copy of the CPSC budget request for fiscal year 2010 can be found at http://www.cpsc.gov/cpscpub/pubs/reports/2010plan.pdf. For a printed copy of these documents, e-mail, call or write Todd A. Stevenson, Office of the Secretary, Consumer Product Safety Commission, 4330 East West Highway, Bethesda, Maryland 20814; e-mail cpsc-os@cpsc.gov; telephone (301) 504-7923; facsimile (301) 504-0127.

Written comments on suggested revisions to the Commission's current strategic plan, and agenda and priorities for fiscal year 2011, should be captioned “Agenda, Priorities and Strategic Plan” and e-mailed to cpsc-os@cpsc.gov, or mailed or delivered to the Office of the Secretary, Consumer Product Safety Commission, 4330 East West Highway, Bethesda, Maryland 20814, to be received not later than June 26, 2009. If the analysis of any issues raised in the comments would benefit from a public hearing, the Commission will hold a hearing. The Commission will publish a notice in the Federal Register specifying the date, time, and location of such hearing.

The Commission desires to obtain the views of a wide range of interested persons including consumers; manufacturers, importers, distributors, and retailers of consumer products; members of the academic community; consumer advocates; and health and safety officers of State and local governments on both the fiscal year 2011 budget and potential revisions to the strategic plan.

Dated: June 3, 2009.
Todd A. Stevenson,
Secretary, Consumer Product Safety Commission.

[FR Doc. E9-13361 Filed 6-8-09; 8:45 am]

BILLING CODE 6355-01-P